DEPARTMENT OF HEALTH AND HUMAN SERVICES

National Institutes of Health

National Cancer Institute; Amended Notice of Meeting

Notice is hereby given of a change in the meeting of the National Cancer Institute Special Emphasis Panel, March 12, 2009, 8:30 a.m. to March 13, 2009, 5 p.m., Bethesda Marriott—Pooks Hill, 5151 Pooks Hill Road, Bethesda, MD, 20814 which was published in the Federal Register on January 12, 2009, 74 FR71219.

This notice is amended to change the Scientific Review Officer from Rhonda J. Moore, PhD to Joyce C. Pegues, PhD. The meeting is closed to the public.

Dated: February 9, 2009.
Jennifer Spaeth,
Director, Office of Federal Advisory Committee Policy.

[FR Doc. E9-3202 Filed 2-13-09; 8:45 am]

BILLING CODE 4140-01-P